DEPARTMENT OF ENERGY

Notice of Request for Information (RFI) Regarding Inflation Reduction Act Home Efficiency and Electrification Rebate Programs

AGENCY: Office of State and Community Energy Programs, Department of Energy (DOE).

ACTION: Request for information (RFI).

SUMMARY: The U.S. Department of Energy's (DOE) Office of State and Community Energy Programs (SCEP) invites public input for its Request for Information (RFI) number DE-FOA-DE-FOA-0002981 regarding the development of best practices for the Home Energy Rebate programs in accordance with the Inflation Reduction Act (IRA). Responses to this RFI will be used for planning purposes to develop one or multiple opportunities to assist states, territories, Indian Tribes, as well as potentially other entities, in designing, managing, and improving the Home Energy Rebate programs.

DATES: Responses to the RFI must be received no later than 8 p.m. EDT on March 3, 2023.

ADDRESSES: Responses to this RFI may be submitted in two ways. DOE prefers responses that are submitted via this online form: https://forms.office.com/g/iuwKCbKpJK. The form includes response boxes for all 59 questions included in this RFI. Respondents may answer as many or as few questions as they wish. Using this online form will allow DOE to sort and compare responses by question, which will help agency staff to more easily analyze the responses to inform program guidance.

Responses may also be submitted by email to IRAHomeRebates@hq.doe.gov. Responses must be provided as a Microsoft Word (.docx) attachment to the email, with no more than 10 pages in length, 12-point font, 1-inch margins. It is recommended that attachments with file sizes exceeding 25MB be compressed (i.e., zipped) to ensure message delivery. If submitting responses via email, please identify the specific question number and topic area to which your response is directed, if applicable. Respondents may answer as many or as few questions as they wish. The RFI is located at https://eere-exchange.energy.gov/. SCEP does not intend to respond to individual submissions or publish a compendium of responses.

FOR FURTHER INFORMATION CONTACT: Questions may be addressed to Michael Forrester, email at IRAHomeRebates@hq.doe.gov or (202) 586-1215. Further instruction can be found in the RFI document posted on https://eere-exchange.energy.gov/.

SUPPLEMENTARY INFORMATION: On August 16, 2022, President Biden signed the Inflation Reduction Act.¹ The energy and climate provisions of this bill include tax credits for clean energy technologies, $8.8 billion in residential energy efficiency rebates, $200 million for energy efficiency contractor training, and billions more for clean energy research and development, community investment, energy justice, and permitting processes. IRA section 50121, Home Energy Performance-Based, Whole House Rebates (referred to as Home Efficiency Rebates) ² and section 50122, High-Efficiency Electric Home Rebate Program (referred to as Home Electrification Rebates) ³ established the Home Energy Rebates programs.

¹ Inflation Reduction Act, Public Law 117-169 (August 16, 2022).

² Codified at 42 U.S.C. 18795.

³ Codified at 42 U.S.C. 18795a.

SCEP intends to use principles of equity and justice to guide IRA implementation of these programs, consistent with the Biden Administration's commitments to ensure that overburdened, underserved, and underrepresented individuals and communities have access to federal resources. The IRA implementation processes should advance equity for all, including people of color and others who have been historically underserved, marginalized, and adversely affected by persistent poverty and inequality. IRA implementation efforts for the Home Energy Rebates programs support the goal that 40 percent of the overall benefits of certain federal investments flow to disadvantaged communities (the Justice40 Initiative).⁴

⁴ Executive Order 14008, “Tackling the Climate Crisis at Home and Abroad,” 86 FR 7619 (Jan. 27, 2021).

The implementation of the Home Energy Rebates programs aims to help American households save money on energy bills, upgrade to clean energy equipment and improve energy efficiency, and reduce indoor and outdoor air pollution. DOE estimates that the historic home energy efficiency and electrification consumer rebates authorized will save households up to $1 billion annually. More information about the Home Energy Rebate programs can be found on the program's website.⁵

⁵ Accessible at https://stage.energy.gov/scep/home-energy-rebate-program.

SCEP is working to distribute these funds so that households across the country can soon access these benefits. Congress has structured these rebate programs to be developed and implemented by State Energy Offices and Indian Tribes, with DOE providing guidance, support, and oversight. SCEP is seeking to build upon the agency's knowledge of home energy efficiency and electrification technologies, tools, and programs through this RFI.

The following table describes the purpose, funding levels, and eligible entities for the Home Efficiency Rebates and Home Electrification Rebates programs.

Program name | Authorizing statute | Funds available | Eligible recipient(s) | Purpose
Home Efficiency Rebates | IRA Sec. 50121 | $4.3 billion for the period of fiscal years through September 30, 2031 | States | State energy office “receiving a grant pursuant to this section shall provide rebates to homeowners and aggregators for whole-house energy saving retrofits[.]”
Home Electrification Rebates | IRA Sec. 50122 | $4.275 billion to States and $225 million to Indian Tribes through September 30, 2031 | States and Indian Tribes | The Secretary shall award grants to “State energy offices and Indian Tribes to establish a high-efficiency electric home rebate program under which rebates shall be provided to eligible entities for qualified electrification projects.”

Purpose

The purpose of this RFI is to solicit input from States, Indian Tribes, local governments, energy contractors, labor organizations, manufacturers of energy efficient home equipment and materials, community-based organizations, environmental and housing justice organizations, disadvantaged communities, and other stakeholders to inform the DOE's program guidance for the home efficiency and electrification rebate programs. This is solely a request for information and not a Funding Opportunity Announcement. SCEP is not accepting applications through the release of this RFI. SCEP will consider responses to this RFI as it develops program guidance, expected to be issued as an Administrative and Legal Requirements Document in 2023. Specifically, SCEP is interested in public input on questions across the following categories:

Accessible and Equitable Program Design

Tribal Implementation of the Home Electrification Rebates

Designing Programs for Maximum Impact

Integrating Existing Incentives and Programs

Opt-In Tools, Resources, Technical Assistance, and Partnerships

Income Verification

Estimating and Measuring Energy Savings

Eligible Technologies for Rebates

Data Access and Sharing

Compliance and Quality Assurance

Job Creation and Quality

Buy American and Supply Chain Considerations

Open Response

Confidential Business Information: According to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email or on a CD, if feasible. DOE will make its own determination about the confidential status of the information and treat it according to its determination.

Signing Authority

This document of the Department of Energy was signed on January 17, 2023, by Dr. Henry McKoy, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 25, 2023.
Treena V. Garrett,
Federal Register Liaison Officer, U.S. Department of Energy.

[FR Doc. 2023-01873 Filed 1-30-23; 8:45 am]

BILLING CODE 6450-01-P